NATIONAL SCIENCE FOUNDATION

Oversight Council for the International Arctic Research Center; Notice of Meeting

In accordance with Federal Advisory Committee Act (Pub. L. 92-463, as amended), the National Science Foundation announces the following meeting:

Name: Oversight Council for the International Arctic Research Center (9535).

Date/Time: January 25, 2001, 1 p.m. to 2 pm.

Place: National Science Foundation, Room 755, 4201 Wilson Boulevard, Arlington, VA 22230.

Type of Meeting: Closed (Meeting via Telephone Conference Call).

Contact Person: Charles Myers, National Science Foundation, 4201 Wilson Blvd., Suite 755, Telephone (703) 292-7434.

Purpose of Meeting: To provide advice and recommendationsconcerning further support for the International Arctic Research Center (IARC).

Agenda: To review and evaluate the current and proposed activities of the IARC.

Reason for Closing: The information being reviewed includes information of a proprietary or confidential nature, including technical information; financial data, such as salaries; and personal information concerning individuals associated with the IRAC. The matters are exempt under 5 U.S.C. 552b(c), (4), and (6) of the Government in the Sunshine Act.

Reason for Late Notice: Conflicting schedules of committee members and the need to discuss the International Arctic Research Center without further delay.

Dated: January 16, 2001.
Karen J. York,
Committee Management Officer.

[FR Doc. 01-1941 Filed 1-22-01; 8:45 am]

BILLING CODE 7555-01-M